FEDERAL ELECTION COMMISSION

Sunshine Act Meetings

AGENCY: Federal Election Commission.

DATE AND TIME: Wednesday, July 23, 2014 at 10:00 a.m.

PLACE: 999 E Street NW., Washington, DC (Ninth Floor).

STATUS: This meeting will be open to the public.

ITEMS TO BE DISCUSSED:

Correction and Approval of Minutes for June 26, 2014

Draft Advisory Opinion 2014-05: Henry Ford Health System Government Affairs Services Political Action Committee

Draft Advisory Opinion 2014-06: Congressman Paul Ryan, Ryan for Congress, Inc., and Prosperity Action, Inc.

Draft Advisory Opinion 2014-08: Nick for New York

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2014-17106 Filed 7-16-14; 4:15 pm]

BILLING CODE 6715-01-P